DEPARTMENT OF DEFENSE

Office of the Secretary of Defense

Charter Amendment of Department of Defense Federal Advisory Committees

AGENCY: DoD.

ACTION: Charter Amendment of Federal Advisory Committee.

SUMMARY: Under the provisions of the Federal Advisory Committee Act of 1972, (5 U.S.C. Appendix, as amended), the Government in the Sunshine Act of 1976 (5 U.S.C. 552b, as amended), and 41 CFR 102-3.85, the Department of Defense gives notice that it is amending the charter for the Board of Regents Uniformed Services University of the Health Sciences (hereafter referred to as the Board of Regents).

The Board of Regents is a non-discretionary federal advisory committee established by 10 U.S.C. 2166(e) to assist the Secretary of Defense in an advisory capacity in carrying out the Secretary's responsibility to conduct the business of the Uniformed Services University of the Health Sciences. Section 956 of Public Law 110-181 (National Defense Authorization Act for Fiscal Year 2008) amended the Board's membership provisions of 10 U.S.C. 2113(a). All other provisions of 10 U.S.C. 2113(a) remained unchanged.

Pursuant to 10 U.S.C. 2113(a), the Board of Regents shall be composed of fifteen members:

1. Nine persons outstanding in the fields of health and health education who shall be appointed from civilian life by the Secretary of Defense;

2. The Secretary of Defense, or his designee, who shall be an ex officio member;

3. The surgeons general of the uniformed services, who shall be ex officio members; and

4. The President of the University, who shall be a non-voting ex officio member. The terms of office for each member of the Board of Regents (other than ex officio members shall be six years except that:

1. Any member appointed to fill a vacancy occurring before the expiration of the term for which his predecessor was appointed shall be appointed for the remainder of such term; and

2. Any member who term of office has expired shall continue to serve until his successor is appointed.

One of the appointed members of the Board of Regents shall be designated as Chairman by the Secretary of Defense. The Chairman shall be the presiding officer of the Board.

Members of the Board of Regents appointed by the Secretary of Defense, who are not federal officers or employees, shall serve as Special Government Employees under the authority of 5 U.S.C. 3109, and pursuant to 10 U.S.C. 2113(e), shall receive compensation at a rate fixed by the Secretary of Defense, in addition to travel expense and per diem for official travel.

The Board of Regents shall be authorized to establish subcommittees, as necessary and consistent with its mission, and these subcommittees or working groups shall operate under the provisions of the Federal Advisory Committee Act of 1972, the Government in the Sunshine Act of 1976, and other appropriate federal regulations.

Such subcommittees or workgroups shall not work independently of the chartered Board, and shall report all their recommendations and advice to the Board of Regents for full deliberation and discussion. Subcommittees or workgroups have no authority to make decisions on behalf of the chartered Board nor can they report directly to the Department of Defense or any federal officers or employees who are not Board of Regents members.

SUPPLEMENTARY INFORMATION: The Board of Regents shall meet at the call of the Board's Designated Federal Officer, in consultation with the Board's chairperson. The Designated Federal Officer, pursuant to DoD policy, shall be a full-time or permanent part-time DoD employee, and shall be appointed in accordance with established DoD policies and procedures. The Designated Federal Officer or duly appointed Alternate Designated Federal Officer shall attend all committee meetings and subcommittee meetings.

Pursuant to 41 CFR 102-3.105(j) and 102-3.140, the public or interested organizations may submit written statements to the Board of Regents Uniformed Services University of the Health Sciences membership about the Board's mission and functions. Written statements may be submitted at any time or in response to the stated agenda of planned meeting of the Board of Regents Uniformed Services University of the Health Sciences.

All written statements shall be submitted to the Designated Federal Officer for the Board of Regents Uniformed Services University of the Health Sciences, and this individual will ensure that the written statements are provided to the membership for their consideration. Contact information for the Board of Regents Uniformed Services University of the Health Sciences' Designated Federal Officer can be obtained from the GSA's FACA Database— https://www.fido.gov/facadatabase/public.asp.

The Designated Federal Officer, pursuant to 41 CFR 102-3.150, will announce planned meetings of the Board of Regents Uniformed Services University of the Health Sciences. The Designated Federal Officer, at that time, may provide additional guidance on the submission of written statements that are in response to the stated agenda for the planned meeting in question.

FOR FURTHER INFORMATION CONTACT: Jim Freeman, Deputy Committee Management Officer for the Department of Defense, 703-601-6128.

Dated: March 25, 2008.
L.M. Bynum,
Alternate OSD Federal Register Liaison Officer, Department of Defense.

[FR Doc. E8-6531 Filed 3-28-08; 8:45 am]

BILLING CODE 5001-06-P